INTERNATIONAL TRADE COMMISSION

[USITC SE-02-001]

Sunshine Act Meeting

Agency Holding the Meeting: United States International Trade Commission.

Time and Date: January 10, 2002 at 2 p.m.

Place: Room 101, 500 E Street SW., Washington, DC 20436, Telephone: (202) 205-2000.

Status: Open to the public.

Matters to be Considered: 1. Agenda for future meeting: None.

2. Minutes

3. Ratification List

4. Inv. Nos. 731-TA-986-987 (Preliminary) (Ferrovanadium from China and South Africa)—briefing and vote. (The Commission is currently scheduled to transmit its determination to the Secretary of Commerce on January 10, 2002; Commissioners opinions are currently scheduled to be transmitted to the Secretary of Commerce on January 17, 2002.)

5. Inv. Nos. 701-TA-267-268 and 731-TA-304-305 (Review) (Remand) (Top-of-Stove Stainless Steel Cooking Ware from Korea and Taiwan)—briefing and vote. (The Commission is currently scheduled to transmit its view on remand to the Court of International Trade on January 25, 2002.)

6. Outstanding action jackets: None.

In accordance with Commission policy, subject matter listed above, not disposed of at the scheduled meeting, may be carried over to the agenda of the following meeting. Earlier announcement of this meeting was not possible.

By order of the Commission.
Issued: January 3, 2002.
Donna R. Koehnke,
Secretary.

[FR Doc. 02-429 Filed 1-3-02; 1:50 pm]

BILLING CODE 7020-02-P